NUCLEAR REGULATORY COMMISSION

[Docket Nos. 50-275 and 50-323; NRC-2016-0151]

Pacific Gas and Electric Company; Diablo Canyon Power Plant, Units 1 and 2

AGENCY: Nuclear Regulatory Commission.

ACTION: License amendment application; withdrawal by applicant.

SUMMARY: The U.S. Nuclear Regulatory Commission (NRC) has granted the request of Pacific Gas and Electric Company (PG&E) to withdraw its application dated May 12, 2016, for the proposed amendments to Facility Operating License Nos. DPR-80 and DPR-82 for Diablo Canyon Power Plant (DCPP), Units 1 and 2. The proposed amendments would have modified the DCPP Technical Specifications (TSs) to adopt Nuclear Energy Institute (NEI) 94-01, Revision 2A, “Industry Guideline for Implementing Performance-Based Option of 10 CFR part 50, Appendix J.”

ADDRESSES: Please refer to Docket ID NRC-2016-0151 when contacting the NRC about the availability of information regarding this document. You may obtain publicly-available information related to this document using any of the following methods:

• Federal Rulemaking Web site: Go to http://www.regulations.gov and search for Docket ID NRC-2016-0151. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Balwant K. Singal, Office of Nuclear Reactor Regulation, U.S. Nuclear Regulatory Commission, Washington, DC 20555-0001; telephone: 301-415-3016, email: Balwant.Singal@nrc.gov.

SUPPLEMENTARY INFORMATION: The NRC has granted the request of PG&E to withdraw its application dated May 12, 2016 (ADAMS Accession No. ML16146A100), for the proposed amendments to Facility Operating License Nos. DPR-80 and DPR-82 for DCPP, Units 1 and 2, located in San Luis Obispo County, California.

The proposed amendments would have modified DCPP, Units 1 and 2, TS 5.5.16, “Containment Leakage Rate Testing Program,” to replace the reference to Regulatory Guide 1.163, “Performance-Based Containment Leak-Test Program,” September 1995 (ADAMS Accession No. ML003740058), and 10 CFR part 50, Appendix J, Option B, “Performance-Based Requirements,” with a reference to NEI 94-01, Revision 2-A, “Industry Guideline for Implementing Performance-Based Option of 10 CFR part 50, Appendix J,” October 2008 (ADAMS Accession No. ML100620847). In addition, the proposed amendments would have modified TS 5.5.16 to remove an exception under paragraph 5.16.a.3 for a one-time 15-year Type A test interval.

The Commission has previously issued a proposed finding that the amendment involves no significant hazards determination published in the Federal Register on August 2, 2016 (81 FR 50733). However, by letter dated March 30, 2017 (ADAMS Accession No. ML17089A688), PG&E requested to withdraw the proposed amendment.

Dated at Rockville, Maryland, this 24th day of April 2017.
For the Nuclear Regulatory Commission.
Balwant K. Singal,
Senior Project Manager, Plant Licensing Branch IV, Division of Operating Reactor Licensing, Office of Nuclear Reactor Regulation.

[FR Doc. 2017-08734 Filed 4-28-17; 8:45 am]

BILLING CODE 7590-01-P